DEPARTMENT OF TRANSPORTATION

Federal Aviation Administration

14 CFR Part 39

[Docket No. 2002-NM-77-AD; Amendment 39-13010; AD 2002-26-21]

RIN 2120-AA64

Airworthiness Directives; Dornier Model 328-100 and -300 Series Airplanes

AGENCY: Federal Aviation Administration, DOT.

ACTION: Final rule.

SUMMARY: This amendment adopts a new airworthiness directive (AD), applicable to certain Dornier Model 328-100 and -300 series airplanes, that requires inspecting the electrical wire harness next to the fuel line at the left electric fuel pump for signs of chafing; securing the electrical wire harness to the fuel line using ty-rap; and taking corrective actions, if necessary. This action is necessary to prevent damage to the electrical wire harness, which could result in electrical arcing and an increased potential for fire or explosion. This action is intended to address the identified unsafe condition.

DATES: Effective February 12, 2003.

The incorporation by reference of certain publications listed in the regulations is approved by the Director of the Federal Register as of February 12, 2003.

ADDRESSES: The service information referenced in this AD may be obtained from FAIRCHILD DORNIER, DORNIER Luftfahrt GmbH, PO Box 1103, D-82230 Wessling, Germany. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Dornier Model 328-100 and -300 series airplanes was published in the Federal Register on September 13, 2002 (67 FR 57984). That action proposed to require inspecting the electrical wire harness next to the fuel line at the left electric fuel pump for signs of chafing; securing the electrical wire harness to the fuel line using ty-rap; and taking corrective actions, if necessary.

Comments

Interested persons have been afforded an opportunity to participate in the making of this amendment. No comments were submitted in response to the proposal or the FAA's determination of the cost to the public.

Conclusion

The FAA has determined that air safety and the public interest require the adoption of the rule as proposed.

Cost Impact

The FAA estimates that 100 airplanes of U.S. registry will be affected by this AD, that it will take approximately 1 work hour per airplane to accomplish the required inspection and securing of the electrical wire harness, and that the average labor rate is $60 per work hour. Based on these figures, the cost impact of the AD on U.S. operators is estimated to be $6,000, or $60 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-26-21 Dornier Luftfahrt GMBH: Amendment 39-13010. Docket 2002-NM-77-AD.

Applicability: Model 328-100 series airplanes, as listed in Dornier Service Bulletin SB-328-24-391, dated September 11, 2001; and Model 328-300 series airplanes, as listed in Dornier Service Bulletin SB-328J-24-120, dated September 12, 2001; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent damage to the electrical wire harness, made up of wiring and a protective sleeve, which could result in electrical arcing and an increased potential for fire or explosion, accomplish the following:

Inspection

(a) Within 400 flight hours after the effective date of this AD, do a one-time general visual inspection to detect chafing damage to the electrical wire harness, made up of wiring and a protective sleeve, next to the fuel line at the left electric fuel pump; per Dornier Service Bulletin SB-328-24-391, dated September 11, 2001 (for Model 328-100 series airplanes); or Dornier Service Bulletin SB-328J-24-120, dated September 12, 2001 (for Model 328-300 series airplanes); as applicable.

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

No Chafing: Secure the Electrical Wire Harness

(b) If no chafing damage to the electrical wire harness, made up of wiring and a protective sleeve, is detected during the inspection required by paragraph (a) of this AD, before further flight, secure the electrical wire harness to the fuel line using ty-rap, per Dornier Service Bulletin SB-328-24-391, dated September 11, 2001 (for Model 328-100 series airplanes); or Dornier Service Bulletin SB-328J-24-120, dated September 12, 2001 (for Model 328-300 series airplanes); as applicable.

Chafing: Corrective Action(s) and Secure the Electrical Wire Harness

(c) If any chafing damage to the electrical wire harness, made up of wiring and a protective sleeve, is detected during the inspection required byparagraph (a) of this AD, before further flight, do the action(s) specified in paragraphs (c)(1) and (c)(2) of this AD, as applicable, and paragraph (c)(3) of this AD, per Dornier Service Bulletin SB-328-24-391, dated September 11, 2001 (for Model 328-100 series airplanes); or Dornier Service Bulletin SB-328J-24-120, dated September 12, 2001 (for Model 328-300 series airplanes); as applicable.

(1) For any damaged protective sleeve: Repair or replace the protective sleeve, per the applicable service bulletin.

(2) For any damaged wiring: Replace the electrical wire harness, made up of wiring and a protective sleeve, with a new electrical wire harness, per the applicable service bulletin.

(3) Secure the electrical wire harness, made up of wiring and a protective sleeve, to the fuel line using ty-rap, per the applicable service bulletin.

Alternative Methods of Compliance

(d) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(e) Special flight permits may be issued in accordance with sections 21.197 and 21.199 of the Federal Aviation Regulations (14 CFR 21.197 and 21.199) to operate the airplane to a location where the requirements of this AD can be accomplished.

Incorporation by Reference

(f) The actions shall be done in accordance with Dornier Service Bulletin SB-328-24-391, dated September 11, 2001; or Dornier Service Bulletin SB-328J-24-120, dated September 12, 2001; as applicable. This incorporation by reference was approved by the Director of the Federal Register in accordance with 5 U.S.C. 552(a) and 1 CFR part 51. Copies may be obtained from FAIRCHILD DORNIER, DORNIER Luftfahrt GmbH, PO Box 1103, D-82230 Wessling, Germany. Copies may be inspected at the FAA, Transport Airplane Directorate, 1601 Lind Avenue, SW., Renton, Washington; or at the Office of the Federal Register, 800 North Capitol Street, NW., suite 700, Washington, DC.

Note 4: The subject of this AD is addressed in German airworthiness directives 2002-049 and 2002-050, both dated March 7, 2002.

Effective Date

(g) This amendment becomes effective on February 12, 2003.

Issued in Renton, Washington, on December 30, 2002.
Kevin Mullin,
Acting Manager, Transport Airplane Directorate, Aircraft Certification Service.

[FR Doc. 03-151 Filed 1-7-03; 8:45 am]

BILLING CODE 4910-13-P